DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by American Museum of Natural History professional staff in consultation with representatives of the Muckleshoot Indian Tribe of the Muckleshoot Reservation, Washington; and the Suquamish Indian Tribe of the Port Madison Reservation, Washington.

At an unknown date, human remains representing a minimum of one individual were collected by an unknown individual from Alki Point, Seattle, King County, WA. Also at an unknown date, these human remains came into the possession of the American Museum of Natural History and may never have been accessioned into the collections. No known individual was identified. No associated funerary objects are present.

Based on the assigned culture name, “Salish”, and the geographic location where these human remains were found, this individual has been identified as Native American. These human remains derive from the post-contact territory of the Muckleshoot Indian Tribe of the Muckleshoot Reservation, Washington; and the Suquamish Indian Tribe of the Port Madison Reservation, Washington. Based on geographical evidence and on archeological expert opinion, these human remains are most likely culturally affiliated with the Muckleshoot Indian Tribe of the Muckleshoot Reservation, Washington; and the Suquamish Indian Tribe of the Port Madison Reservation, Washington.

Based on the above-mentioned information, officials of the American Museum of Natural History have determined that, pursuant to 43 CFR 10.2 (d)(1), the human remains listed above represent the physical remains of a minimum of one individual of Native American ancestry. Officials of the American Museum of Natural History also have determined that, pursuant to 43 CFR 10.2 (e), there is a relationship of shared group identity that can be reasonably traced between these Native American human remains and the Muckleshoot Indian Tribe of the Muckleshoot Reservation, Washington; and the Suquamish Indian Tribe of the Port Madison Reservation, Washington. This notice has been sent to officials of the Muckleshoot Indian Tribe of the Muckleshoot Reservation, Washington; and the Suquamish Indian Tribe of the Port Madison Reservation, Washington. Representatives of any other Indian tribe that believes itself to be culturally affiliated with these human remains should contact Martha Graham, Director of Cultural Resources, American Museum of Natural History, Central Park West at 79th Street, New York, NY 10024-5192, telephone (212) 769-5846, before October 20, 2000. Repatriation of the human remains to the Muckleshoot Indian Tribe of the Muckleshoot Reservation, Washington; and the Suquamish Indian Tribe of the Port Madison Reservation, Washington may begin after that date if no additional claimants come forward.

Dated: September 14, 2000.
John Robbins,
Assistant Director, Cultural Resources Stewardship and Partnerships.

[FR Doc. 00-24126 Filed 9-19-00; 8:45 am]

BILLING CODE 4310-70-F